DEPARTMENT OF TRANSPORTATION

National Highway Traffic Safety Administration

[Docket No. NHTSA-2021-0031]

Agency Information Collection Activities; Notice and Request for Comment; Motorcycle Helmets (Labeling)

AGENCY: National Highway Traffic Safety Administration (NHTSA), Department of Transportation.

ACTION: Notice and request for comments on a reinstatement of a previously approved collection of information.

SUMMARY: The National Highway Traffic Safety Administration (NHTSA) invites public comments about our intention to request approval from the Office of Management and Budget (OMB) for a reinstatement of a previously approved collection of information entitled “Motorcycle Helmets (Labeling)” (OMB Control Number: 2127-0518). Before a Federal agency can collect certain information from the public, it must receive approval from OMB. Under procedures established by the Paperwork Reduction Act of 1995, before seeking OMB approval, Federal agencies must solicit public comment on proposed collections of information, including extensions and reinstatement of previously approved collections. This document describes NHTSA's information collection on motorcycle helmet labeling.

DATES: You should submit your comments early enough to ensure that Docket Management receives them no later than July 12, 2021.

ADDRESSES: You may submit comments (identified by the DOT Docket ID Number above) by any of the following methods:

• Federal eRulemaking Portal: Go to http://www.regulations.gov. Follow the online instructions for submitting comments.

• Mail: Docket Management Facility: U.S. Department of Transportation, 1200 New Jersey Avenue SE, West Building Ground Floor, Room W12-140, Washington, DC 20590-0001.

• Hand Delivery or Courier: West Building Ground Floor, Room W12-140, 1200 New Jersey Avenue SE, Washington, DC, 20590-0001 between 9 a.m. and 5 p.m. ET, Monday through Friday, except Federal holidays. To be sure someone is there to help you, please call (202) 366-9322 before coming.

• Fax: 202-493-2251.

All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket, go to http://www.regulations.gov or the street address listed above. Follow the online instructions for accessing the dockets online. To be sure someone is there to help you at the street address, please call (202) 366-9322 before coming.

FOR FURTHER INFORMATION CONTACT: For additional information or access to background documents, contact Mr. Christian Nguyen, U.S. Department of Transportation, NHTSA, 1200 New Jersey Avenue SE, West Building Room W43-418, NRM-130, Washington, DC 20590. Mr. Christian Nguyen's telephone number is 202-366-2365 and fax number is 202-366-7002. Please identify the relevant collection of information by referring to its OMB Control Number.

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) Whether the proposed collection of information is necessary for the proper performance of the functions of the agency, including whether the information will have practical utility; (b) the accuracy of the agency's estimate of the burden of the proposed collection of information, including the validity of the methodology and assumptions used; (c) how to enhance the quality, utility, and clarity of the information to be collected; (d) how to minimize the burden of the collection of information on those who are to respond, including the use of appropriate automated, electronic, mechanical, or other technological collection techniques or other forms of information technology, e.g. permitting electronic submission of responses. In compliance with these requirements, NHTSA asks for public comments on the following proposed collection of information for which the agency is seeking approval from OMB.

Title: Motorcycle Helmets (Labeling).

OMB Control Number: 2127-0518.

Type of Request: Reinstatement of a previously approved collection of information.

Type of Review Requested: Regular.

Requested Expiration Date of Approval: Three years from the approval date.

Summary of the Collection of Information: The National Traffic and Motor Vehicle Safety Act authorizes the Secretary of Transportation (NHTSA by delegation), at 49 U.S.C. 30111, to issue Federal Motor Vehicle Safety Standards (FMVSS) that set performance standards for motor vehicles and items of motor vehicle equipment. Vehicle and equipment manufacturers must certify that their vehicles or equipment comply with these standards. Further, the Secretary (NHTSA by delegation) is authorized, at 49 U.S.C. 30117, to require manufacturers to provide information to first purchasers of motor vehicles or motor vehicle equipment when the vehicle or equipment is purchased, in the form of printed matter placed in the vehicle or attached to the vehicle or motor vehicle equipment.

Using this authority, NHTSA issued the initial FMVSS No. 218, “Motorcycle helmets,” in 1974. Motorcycle helmets are devices used to protect motorcyclists from head injury in motor vehicle accidents. The standard requires the manufacturer to label every helmet it produces to indicate compliance with the requirements of the Standard. The certification label consists of the symbol “DOT,” the term “FMVSS No. 218,” the word “CERTIFIED,” the precise model designation, and the manufacturer's name and/or brand on the outer shell of the helmet towards the posterior bottom edge. Manufacturers are also required to label every helmet to provide helmet owners with important safety information including manufacturer's name, discrete size, month and year of manufacture, and specific instructions to the purchaser. FMVSS No. 218, S5.6 requires that each helmet shall be labeled permanently and legibly in a manner such that the label(s) can be read easily without removing padding or any other permanent part.

Description of the Need for the Information and Proposed Use of the Information: The labeling requirement in the Standard supports the Department of Transportation's strategic goal in safety, by ensuring that motorcycle helmets are manufactured and certified to the performance requirements of the Standard. NHTSA uses this information for enforcement purposes to ensure that manufacturers certify compliance with the Standard. State and local law enforcement use this information to enforce helmet-use laws, and consumers use the information to make decisions when purchasing motorcycle helmets.

Affected Public: Motorcycle helmet manufacturers.

Estimated Number of Respondents: 45.

Frequency: On occasion.

Estimated Total Annual Burden Hours: 9,100 hours.

NHTSA estimates that 3,250,000 motorcycle helmets are manufactured annually by 45 motorcycle helmet manufacturers. NHTSA also estimates that 10 seconds are spent labeling each helmet. Therefore, the estimated total annual burden hours for the collection of information required in FMVSS No. 218 is 9,100 hours (3,250,000 × 10 seconds, rounded).

For the labor costs associated with the burden hours for affixing labels to helmets, NHTSA uses the average wage of $22.59 per hour for “Assemblers and Fabricators” (occupational code 51-2000) published by the Bureau of Labor Statistics (BLS).¹ BLS estimates that wages represent approximately 70.2% of total compensation for private industry workers.² Therefore, NHTSA calculates the labor cost associated with Assemblers and Fabricators to be $32.18 per hour ($22.59 ÷ 0.702). Multiplying that hourly rate by the estimated 9,100 labor hours needed to affix labels yields an estimated total annual labor cost of $292,838 ($32.18 × 9,100 hours). The total estimated burden hours and associated labor costs are detailed in the table below:

¹ May 2019 National Industry-Specific Occupational Employment and Wage Estimates, NAICS 336100—Motor Vehicle Manufacturing, https://www.bls.gov/oes/current/naics4_336100.htm#51-0000.

² Table 1. Employer Costs for Employee Compensation by ownership, September 2020, https://www.bls.gov/news.release/ecec.t01.htm.

Number of respondents (helmet manufacturers) | Number of helmets produced annually (per respondent) (rounded) | Time to affix label per helmet (seconds) | Estimated total annual burden hours (per respondent) (rounded) | Total labor cost per hour | Labor cost (per respondent) | Total burden hours (rounded) | Total labor cost
45 | 72,000 | 10 | 200 | $32.18 | $6,500 | 9,100 | $292,838

Estimated Total Annual Burden Cost: $1,137,500.

The total annual cost to the respondents is estimated to be $1,137,500. NHTSA estimates that the printing and material cost per helmet is $0.35. The total annual cost to respondents is calculated by multiplying the printing and material cost ($0.35) by the estimated 3,250,000 responses (helmets produced) per year ($0.35 × 3,250,000). The total estimated annual burden costs are detailed in the table below:

Number of respondents (helmet manufacturers) | Number of helmets produced annually per respondent (rounded) | Printing and material cost per helmet | Annual printing and material cost per manufacturer (rounded) | Total number of helmets produced annually | Estimated total annual printing and material costs
45 | 72,000 | $0.35 | $25,200.00 | 3,250,000 | $1,137,500.00

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. Chapter 35, as amended; 49 CFR 1.49; and DOT Order 1351.29.

Raymond R. Posten,
Associate Administrator for Rulemaking.

[FR Doc. 2021-09985 Filed 5-11-21; 8:45 am]

BILLING CODE 4910-59-P